DEPARTMENT OF ENERGY

Federal Energy Regulatory Commission

[Project No. 1413-032 Idaho]

Fall River Rural Electric Cooperative, Inc.; Notice of Availability of Environmental Assessment

July 2, 2004.

In accordance with the National Environmental Policy Act of 1969 and the Federal Energy Regulatory Commission's (Commission) regulations, 18 CFR Part 380 (Order No. 486, 52 FR 47897), the Office of Energy Projects has reviewed the application for new license for the continued operation of the Buffalo River Hydroelectric Project, located on the Buffalo River near its confluence with the Henry's Fork River in Fremont County, Idaho, and has prepared an Environmental Assessment (EA) for the project. The project occupies about 9.8 acres of land within the Targhee National Forest, administered by the U.S. Forest Service.

The EA contains the staff's analysis of the potential environmental impacts of the project and concludes that licensing the project, with appropriate environmental protective measures, would not constitute a major federal action that would significantly affect the quality of the human environment.

A copy of the EA is available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Any comments should be filed within 30 days from the date of this notice and should be addressed to Magalie R. Salas, Secretary, Federal Energy Regulatory Commission, 888 First Street, NE., Washington, DC 20426. Please affix Project No. 1413-032 to all comments. Comments may be filed electronically via the Internet in lieu of paper. The Commission strongly encourages electronic filings. See 18 CFR 385.2001(a)(1)(iii) and the instructions on the Commission's Web site (http://www.ferc.gov) under the “e-Filing” link.

For further information, contact Gaylord Hoisington at (202) 502-6032.

Magalie R. Salas,
Secretary.

[FR Doc. E4-1656 Filed 7-27-04; 8:45 am]

BILLING CODE 6717-01-P